DEPARTMENT OF HOMELAND SECURITY

U.S. Customs and Border Protection

Agency Information Collection Activities; JADE Act

AGENCY: Customs and Border Protection (CBP), Department of Homeland Security.

ACTION: 60-Day Notice and request for comments; Extension of an existing information collection: 1651-0133.

SUMMARY: As part of its continuing effort to reduce paperwork and respondent burden, CBP invites the general public and other Federal agencies to comment on an information collection requirement concerning the JADE Act. This request for comment is being made pursuant to the Paperwork Reduction Act of 1995 (Pub. L. 104-13; 44 U.S.C. 3505(c)(2)).

DATES: Written comments should be received on or before January 27, 2009, to be assured of consideration.

ADDRESSES: Direct all written comments to U.S. Customs and Border Protection, Attn.: Tracey Denning, 1300 Pennsylvania Avenue, NW., Room 3.2.C, Washington, DC 20229.

FOR FURTHER INFORMATION CONTACT: Requests for additional information should be directed to U.S. Customs and Border Protection, Attn.: Tracey Denning, 1300 Pennsylvania Avenue, NW., Room 3.2C, Washington, DC 20229, Tel. (202) 344-1429.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the CBP request for Office of Management and Budget (OMB) approval. All comments will become a matter of public record. In this document CBP is soliciting comments concerning the following information collection:

Title: JADE Act.

OMB Number: 1651-0133.

Form Numbers: None.

Abstract: The JADE Act amends previous Burmese sanctions by providing for import restrictions on certain categories of goods. In order to enforce these sanctions, CBP will require a certification from the exporter as part of the entry package certifying that the goods were not mined in, or extracted from Burma. This certification is provided for by the Act.

Current Actions: This submission is being made to extend the expiration date.

Type of Review: Extension without change.

Affected Public: Businesses.

Estimated Number of Respondents: 22,197.

Estimated Time per Response: 10 minutes.

Estimated Total Annual Burden Hours: 74,005.

Dated: November 19, 2008.
Tracey Denning,
Agency Clearance Officer, Customs and Border Protection.

[FR Doc. E8-28259 Filed 11-26-08; 8:45 am]

BILLING CODE 9111-14-P